DEPARTMENT OF COMMERCE

National Oceanic and Atmospheric Administration

RIN 0648-XC699

Pacific Fishery Management Council; Public Meeting

AGENCY: National Marine Fisheries Service (NMFS), National Oceanic and Atmospheric Administration (NOAA), Commerce.

ACTION: Notice of public meeting.

SUMMARY: The Pacific Fishery Management Council (Pacific Council) will convene a conference call of its Ecosystem Advisory Subpanel (EAS). A listening station will be available at the Pacific Council offices for interested members of the public, and there may be opportunities to attend the meeting remotely.

DATES: The conference call will be held Friday, June 14, 2013, from 1 p.m. to 3 p.m.

ADDRESSES: The meeting will be held via conference call, with a public listening station available at the Pacific Council offices: 7700 NE Ambassador Place, Suite 101, Portland, OR 97220.

FOR FURTHER INFORMATION CONTACT: Mike Burner, Staff Officer; telephone: (503) 820-2280.

SUPPLEMENTARY INFORMATION: The primary purpose of the conference call is to discuss updating the federal list of authorized West Coast exclusive economic zone fisheries and other items related to the June 2013 Council meeting.

Action will be restricted to those issues specifically listed in this notice and any issues arising after publication of this notice that require emergency action under Section 305(c) of the Magnuson-Stevens Fishery Conservation and Management Act, provided the public has been notified of the EAS's intent to take final action to address the emergency.

Special Accommodations

This listening station is physically accessible to people with disabilities. Requests for sign language interpretation or other auxiliary aids should be directed to Mr. Kris Kleinschmidt, at (503) 820-2280, at least 5 days prior to the meeting date.

Dated: May 21, 2013.
Tracey L. Thompson,
Acting Deputy Director, Office of Sustainable Fisheries, National Marine Fisheries Service.

[FR Doc. 2013-12503 Filed 5-24-13; 8:45 am]

BILLING CODE 3510-22-P